DEPARTMENT OF COMMERCE

National Oceanic and Atmospheric Administration

RIN 0648-XA756

Marine Mammals; File No. 15537

AGENCY: National Marine Fisheries Service (NMFS), National Oceanic and Atmospheric Administration (NOAA), Commerce.

ACTION: Notice; issuance of permit.

SUMMARY: Notice is hereby given that a permit has been issued to Institute for Marine Mammal Studies (IMMS), P.O. Box 207, Gulfport, MS 39502 (Dr. Moby Solangi, Responsible Party) to obtain stranded, releasable California sea lions (Zalophus californianus) from the National Marine Mammal Stranding Response Program for the purposes of public display.

ADDRESSES: The permit and related documents are available for review online at http://www.nmfs.noaa.gov/pr/permits/review.htm or upon written request or by appointment in the following offices:

Permits, Conservation and Education Division, Office of Protected Resources, NMFS, 1315 East-West Highway, Room 13705, Silver Spring, MD 20910; phone (301) 427-8401; fax (301) 713-0376; and

Southeast Region, NMFS, 263 13th Avenue South, Saint Petersburg, FL 33701; phone (727) 824-5312; fax (727) 824-5309.

FOR FURTHER INFORMATION CONTACT: Jennifer Skidmore or Amy Sloan, (301) 427-8401.

SUPPLEMENTARY INFORMATION: On May 20, 2010, notice was published in the Federal Register (75 FR 28239) that a request for a permit to acquire releasable California sea lions for public display had been submitted by the above-named applicant. The requested permit has been issued under the authority of the Marine Mammal Protection Act of 1972, as amended (16 U.S.C. 1361 et seq.) and the regulations governing the taking and importing of marine mammals (50 CFR part 216).

This permit authorizes the acquisition of releasable stranded California sea lions (two males and six females) from west coast stranding facilities for public display purposes. The receiving facility, IMMS: (1) Is open to the public on a regularly scheduled basis with access that is not limited or restricted other than by charging for an admission fee; (2) offers an educational program that is consistent with professionally recognized standards of informal education in aquaria and zoos, including the Association of Zoos and Aquariums; and (3) holds an Exhibitor's License, number 65-C-0540, issued by the U.S. Department of Agriculture under the Animal Welfare Act (7 U.S.C. 2131-59). The permit is valid through October 5, 2016.

An environmental assessment (EA) was prepared analyzing the effects of the permitted activities on the human environment in compliance with the National Environmental Policy Act of 1969 (42 U.S.C. 4321 et seq.) and made available for public comment on April 11, 2011 (76 FR 19976). Based on the analyses in the EA, NMFS determined that issuance of the permit would not significantly impact the quality of the human environment and that preparation of an environmental impact statement was not required. That determination is documented in a Finding of No Significant Impact (FONSI), signed on September 28, 2011.

Dated: October 5, 2011.
P. Michael Payne,
Chief, Permits and Conservation Division, Office of Protected Resources, National Marine Fisheries Service.

[FR Doc. 2011-26348 Filed 10-11-11; 8:45 am]

BILLING CODE 3510-22-P